DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-0165.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Assessing Factors That Impact AIDS Drug Assistance Program (ADAP) Enrollment and Management in the Face of ADAP Waiting Lists (OMB No. 0915-xxxx)—[New]

HRSA's AIDS Drug Assistance Program (ADAP) provides assistance to help low-income, uninsured and underinsured individuals living with HIV/AIDS to access life-saving medications. As part of the Ryan White HIV/AIDS Program, ADAP is the Payer of Last Resort. Clients enrolled in ADAP have exhausted all other resources to obtain the necessary medications and care. In recent years, ADAP has experienced an increase in enrollment while funding resources have decreased.

This study will use case study methods to identify and examine factors that contribute to the rising enrollments in ADAP and the states' abilities to meet the demands for ADAP services. Data collection will include interviews with up to eight respondents in each of eight selected states, for a maximum of 64 total respondents. Each interview will last approximately 1.5 hours. The respondents will fall into three general categories—ADAP personnel, state HIV/AIDS program leads, and personnel from related state and local programs, such as Medicaid and pharmacy assistance programs. Interviews will be conducted over a period of 2.5 months.

The study will assess factors that may contribute to the rise in ADAP enrollment and costs such as new HIV cases, earlier use of antiretroviral medications, lower attrition of existing clients, unemployment and loss of insurance, or increasing drug costs. In addition, the study will examine factors that may decrease ADAP costs, such as health care reform and cost containment strategies. Findings from the study will be used to develop policy and to recommend promising practices for managing state ADAPs.

The annual estimate of burden is as follows:

Instrument | Number of respondents | Responses per respondent | Total responses | Hours per response | Total burden hours
ADAP Personnel Interview | 32 | 1 | 32 | 1.5 | 48
State HIV/AIDS Lead Interview | 8 | 1 | 8 | 1.5 | 12
Alternative State/Local Program Informant Interview | 24 | 1 | 24 | 1.5 | 36
Total |  |  |  |  | 96

Email comments to paperwork@hrsa.gov or mail the HRSA Reports Clearance Officer, Room 10-33, Parklawn Building, 5600 Fishers Lane, Rockville, Maryland 20857. Written comments should be received within 60 days of this notice.

Dated: December 29, 2011.
Reva Harris,
Acting Director, Division of Policy and Information Coordination.

[FR Doc. 2011-33854 Filed 1-5-12; 8:45 am]

BILLING CODE 4165-15-P